DEPARTMENT OF AGRICULTURE

Office of Advocacy and Outreach

[FOA No.: OAO-00006]

Outreach and Assistance for Socially Disadvantaged Farmers and Ranchers and Veteran Farmers and Ranchers Program

AGENCY: Office of Advocacy and Outreach, USDA.

ACTION: Funding Opportunity Announcement (FOA).

Catalog of Federal Domestic Assistance (CFDA) No.: 10.443

SUMMARY: This notice announces the availability of funds and solicits applications from eligible entities to compete for financial assistance through the Outreach and Assistance for Socially Disadvantaged Farmers and Ranchers and Veteran Farmers and Ranchers Program (hereinafter the “2501 Program”).

The overall goal of the 2501 Program is to assist socially disadvantaged and veteran farmers and ranchers in owning and operating farms and ranches while increasing their participation in agricultural programs and services provided by the United States Department of Agriculture (USDA). This program will assist eligible community-based organizations, higher education institutions, and tribal entities in providing outreach and technical assistance to socially disadvantaged and veteran farmers and ranchers.

DATES: Proposals must be received by August 25, 2014, at 5:00 p.m. EST, at www.grants.gov. Proposals received after this deadline will not be considered for funding.

ADDRESSES: How to File a Complaint of Discrimination: To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

FOR FURTHER INFORMATION CONTACT: Agency Contact: U.S. Department of Agriculture, DM—Office of Advocacy and Outreach, Attn: Kenya Nicholas, Acting Program Director, Whitten Building Room 520-A, 1400 Independence Avenue SW., Washington, DC 20250, Phone: 202-720-6350, Fax: 202-720-7136, Email: OASDVFR2014@osec.usda.gov.

Persons with Disabilities: Persons who require alternative means for communication (Braille, large print, audiotape, etc.), should contact USDA's TARGET Center at (202) 720-2600 (voice and TDD).

SUPPLEMENTARY INFORMATION: Funding/Awards: The total funding potentially available for this competitive opportunity is $9,100,000. The Office of Advocacy and Outreach (OAO) will award new grants from this announcement, subject to availability of funds and the quality of applications received. All applications will be considered new projects and will compete based on the applicant's entity type (i.e., community-based organization, higher education institution, etc.), as described below. The maximum amount of requested federal funding for projects shall not exceed $400,000. The maximum project period is one (1) year.

Funding will be awarded based on peer competition within the three (3) categories listed below. The amount of funding that OAO anticipates awarding within each category is identified below; however, OAO reserves the discretion to make available more or less than those anticipated amounts depending on the number and quality of applications received. There is no commitment by OAO to fund any particular application or to make a specific number of awards within each category.

1. Category #1: Eligible entities described in Sections III.A.2, III.A.3, and III.A.4 (i.e., 1890, 1994, and Hispanic-Serving Institutions of higher education, American Indian tribal community colleges, and Alaska Native cooperative colleges).

Anticipated amount of total funding: $4,000,000.

2. Category #2: Eligible entities described in Sections III.A.1 and III.A.6 (i.e., community-based organizations, including a network or a coalition of community-based organizations, Indian tribes (as defined in 25 U.S.C. § 450b), and national tribal organizations).

Anticipated amount of total funding: $4,000,000.

3. Category #3: Eligible entities described in Sections III.A.5 and III.A.7 (i.e., all other institutions of higher education and other organizations or institutions that received funding under this program before January 1, 1996).

Anticipated amount of total funding: $1,100,000.

Contents of This Announcement

I. Funding Opportunity Description

II. Award Information

III. Eligibility Information

IV. Proposal and Submission Information

V. Application Review Information

VI. Award Administration Information

I. Funding Opportunity Description

A. Background

The 2501 Program, administered by the OAO, is committed to ensuring equitable participation in USDA programs. Community-based organizations, higher education institutions, and eligible tribal entities can play a critical role in addressing the unique difficulties socially disadvantaged and veteran farmers and ranchers face. Differences in demographics, culture, economics, and other factors preclude a single approach to identifying solutions that can benefit farmers and ranchers by connecting them with resources available from USDA.

1. The 2501 Program was authorized by the Food, Agriculture, Conservation, and Trade Act of 1990. The Food, Conservation and Energy Act of 2008 expanded the authority of the Secretary of Agriculture (the Secretary) to provide awards under the program and transferred the administrative authority to OAO. The 2014 Farm Bill further expanded the program to include outreach and assistance to veterans. The 2501 Program extends USDA's capacity to work with members of farming and ranching communities by funding projects that enhance the equitable participation of socially disadvantaged and veteran farmers and ranchers in USDA programs. Projects are intended to build lasting relationships between USDA and socially disadvantaged and veteran farmers and ranchers to improve their ability to start and maintain successful agricultural businesses.

2. Form of Submission

Organizations may only submit one proposal for funding.

B. Scope of Work

The 2501 Program provides funding for outreach and technical assistance projects designed to assist socially disadvantaged and veteran farmers and ranchers in owning and operating viable agricultural enterprises. The OAO requests applications from eligible entities, which will provide outreach and technical assistance to socially disadvantaged and veteran farmers and ranchers.

Proposed activities must address two or more of the following priority areas:

1. Assist socially disadvantaged or veteran farmers and ranchers in owning and operating successful farms and ranches;

2. Improve participation among socially disadvantaged or veteran farmers and ranchers in USDA programs;

3. Build relationships between current and prospective socially disadvantaged or veteran farmers and ranchers and USDA's local, state, regional and National offices;

4. Provide outreach and education to socially disadvantaged or veteran farmers and ranchers on USDA class action lawsuits and claims processes; and/or

5. Introduce agriculture-related information to socially disadvantaged or veteran farmers and ranchers through innovative outreach and technical assistance techniques.

To encourage information sharing and to build capacity among awardees, the OAO may require Project Directors to attend a training conference. The conference will allow awardees to share ideas and lessons learned, provide training on performance and financial reporting requirements, and provide information on USDA programs and services. In addition, Project Directors will have an opportunity to make contacts and gather information.

C. Anticipated Outputs/Outcomes

1. Outputs. The term “output” means an outreach or assistance activity, effort, and associated work product related to improving the ability of socially disadvantaged and veteran farmers and ranchers to own and operate farms and ranches and to participate equitably in USDA programs and related activities. Outputs may be quantitative or qualitative but must be measurable during an assistance agreement funding period.

Examples of outputs from the projects to be funded under this announcement may include, but are not limited to, the following:

a. Number of socially disadvantaged and veteran farmers or ranchers served;

b. number of completed applications to USDA programs;

c. number of socially disadvantaged and veteran farmers and ranchers who attended conferences or trainings;

d. number of conferences or training sessions held;

e. type and topic of educational materials distributed at outreach events;

f. creation of a program to enhance the viability of socially disadvantaged and veteran farmers and ranchers; or

g. activity that supports increased participation of socially disadvantaged farmers and ranchers and veteran farmers and ranchers in USDA programs.

Creation of progress and final reports will be required, as specified in Section VI, Subsection D, “Reporting Requirement.”

2. Outcomes. The term “outcome” means the result, effect, or consequence that will occur from carrying out an outreach or assistance program or activity that is related to a programmatic goal or objective. Outcomes may be agricultural, behavioral, social, economic, or programmatic in nature.

Projects funded under this announcement are required to document anticipated outcomes, including but not limited to:

a. Increase in participation in USDA programs among socially disadvantaged and veteran farmers and ranchers;

b. increase in receptiveness of socially disadvantaged and veteran farmers and ranchers to outreach efforts through effective communication;

c. increase in economic stability of socially disadvantaged and veteran farmers and ranchers within a defined geographic area;

d. increase in community marketing and sales opportunities for the products of socially disadvantaged and veteran farmers and ranchers; or

e. increased use of resource conservation and sustainability practices among socially disadvantaged and veteran farmers and ranchers.

3. Performance Measures. To be eligible for consideration for funding, the applicant must develop performance measures expected to be achieved through proposed activities. These performance measures will provide insight and will be the mechanism to track progress. It is expected that the description of performance measures will include an estimate of the number of socially disadvantaged and veteran farmers and ranchers served by the outreach and assistance activities of the project, including the assumptions used to make those estimates.

The following are questions to consider when developing output and outcome measures of quantitative and qualitative results:

• What are the measurable short term and longer term results the project will achieve?

• How does the plan measure progress in achieving the expected results (including outputs and outcomes) and how will the approach use resources effectively and efficiently?

II. Award Information

A. Statutory Authority

The statutory authority for this action is 7 U.S.C. 2279, as amended, which authorizes award funding for projects designed to provide outreach and assistance to socially disadvantaged and veteran farmers and ranchers.

B. Expected Amount of Funding

The total estimated funding expected to be available for awards under this competitive opportunity is $9.1 million. Funding will be awarded based on peer competition within the three (3) categories listed below. The amount of funding that OAO anticipates awarding within each category is identified below; however, OAO reserves the discretion to make available more or less than those anticipated amounts depending on the number and quality of applications received. There is no commitment by OAO to fund any particular application or to make a specific number of awards within each category.

1. Category #1: Eligible entities described in Sections III.A.2, III.A.3, and III.A.4 (i.e., 1890, 1994, and Hispanic-serving institutions of higher education, American Indian tribal community colleges, and Alaska Native cooperative colleges).

Anticipated amount of total funding: $4,000,000.

2. Category #2: Eligible entities described in Sections III.A.1 and III.A.6 (i.e., community-based organizations, including a network or a coalition of community-based organizations, Indian tribes (as defined in 25 U.S.C. § 450b), and national tribal organizations).

Anticipated amount of total funding: $4,000,000.

3. Category #3: Eligible entities described in Sections III.A.5 and III.A.7 (i.e., all other institutions of higher education and other organizations or institutions that received funding under this program before January 1, 1996).

Anticipated amount of total funding: $1,100,000.

C. Project Period

The project period for awards resulting from this solicitation will not begin prior to the effective award date and may not exceed one year.

D. Award Type

Funding for selected projects will be in the form of a grant which must be fully executed no later than September 30, 2014. The anticipated Federal involvement will be limited to the following activities:

1. Approval of awardees' final budget and statement of work accompanying the grant agreement;

2. Monitoring of awardees' performance through quarterly and final reports; and

3. Evaluation of awardees' use of federal funds through required quarterly performance and financial reports and on-site visits.

III. Eligibility Information

A. Eligible Entities

1. Any community-based organization, network, or coalition of community-based organizations that:

• Demonstrates experience in providing agricultural education or other agricultural-related services to socially disadvantaged and veteran farmers and ranchers;

• provides documentary evidence of work with, and on behalf of socially disadvantaged and veteran farmers and ranchers during the 3-year period preceding the submission of a proposal for assistance under this program; and

• does not or has not engaged in activities prohibited under Section 501(c)(3) of the Internal Revenue Code of 1986.

2. An 1890 or 1994 institution of higher education (as defined in 7 U.S.C. § 7601).

3. An American Indian tribal community college or an Alaska Native cooperative college.

4. A Hispanic-Serving Institution of higher education (as defined in 7 U.S.C. § 3103).

5. Any other institution of higher education (as defined in 20 U.S.C. § 1001) that has demonstrated experience in providing agricultural education or other agricultural-related services to socially disadvantaged farmers and ranchers.

6. An Indian tribe (as defined in 25 U.S.C. § 450b) or a National tribal organization that has demonstrated experience in providing agricultural education or other agriculturally-related services to socially disadvantaged farmers and ranchers.

7. All other organizations or institutions that received funding under this program before January 1, 1996 but only with respect to projects that the Secretary considers are similar to projects previously carried out by the entity under this program.

B. Cost-Sharing or Matching

Matching is not required for this program.

C. Threshold Eligibility Criteria

Applications from eligible entities that meet all criteria will be evaluated as follows:

1. Proposals must comply with the submission instructions and requirements set forth in Section IV of this announcement. Pages in excess of the page limitation will not be considered.

2. Proposals must be received through www.grants.gov as specified in Section IV of this announcement on or before the proposal submission deadline. Applicants will receive an electronic confirmation receipt of their proposal from www.grants.gov.

3. Proposals received after the submission deadline will be considered late without further consideration.

4. Proposals must address two or more of the priority areas that provide outreach and assistance to socially disadvantaged or veteran farmers and ranchers as stated in Section I, Subsection B, Scope of Work.

IV. Proposal and Submission Information

A. Obtain Proposal Package

Applicants may download individual grant proposal forms from www.grants.gov. For assistance with www.grants.gov, please consult the Applicant User Guide at (http://grants.gov/assets/ApplicantUserGuide.pdf).

B. Form of Proposal Submission

Applicants are required to submit proposals through www.grants.gov. Applicants will be required to register through www.grants.gov in order to begin the proposal submission process.

Proposals must be submitted by August 25, 2014, via www.grants.gov at 5:00 p.m. EST. Proposals received after this deadline will not be considered.

C. Content of Proposal Package Submission

All submissions must contain completed and electronically signed original application forms, as well as a Narrative Proposal, as described below.

1. Forms. The forms listed below can be found in the proposal package at www.grants.gov.

• Standard Form 424, Application for Federal Assistance;

• Standard Form 424A, Budget Information—Non-Construction Programs; and

• Standard Form 424B, Non-Construction Programs.

2. Attachments. The elements listed below are required for all grant proposals and are included in the proposal package at www.grants.gov as fillable PDF templates. Applicants must download and complete these attachments and save the completed PDF files to the application submission portal at www.grants.gov. NOTE: Please number each page of each attachment and indicate the total number of pages per attachment (i.e., 1 of 10, 2 of 10, etc.).

• Attachment 1: Project Summary. In 15 double-spaced pages or less (one-inch margins, 12-point font), indicate the organization that will conduct the project, the geographical area served by the project, and the priority areas that will be addressed by the project. Please be concise.

○ Discuss the merits of your proposed project. Specifically, it is critical that the proposal: (1) Define and establish the existence of the needs of socially disadvantaged farmers and ranchers in the defined geographic area; (2) define and establish the existence of the needs of veteran farmers and ranchers in the defined geographic area; (3) identify the experience of the organization(s) taking part in the project; (4) identify the geographic area of service; and (5) discuss the potential impact of the project.

○ Identify the qualifications, relevant experience, education, and publications of each Project Director or collaborator. Also, specifically discuss the roles and responsibilities of key personnel within the scope of work to be completed by the proposed project. This includes past completed projects and financial management experiences.

• In an organized format, map out the timeline for each task to be accomplished during the proposed award period. Identify the relationship of each task to a priority area identified as one of the five priority areas in Section I, Subsection B.

• Attachment 2: Budget Narrative. The budget narrative should identify and describe the costs associated with the proposed project, including sub-awards or contracts and indirect costs. Other funding sources may also be identified in this attachment. Each cost indicated must be fully allowable under the Federal Cost Principles in order to be funded. The budget narrative should not exceed 2 pages.

• Attachment 3: Appendices. Letters of Commitment, Letters of Support and approvals or other actions by Tribal Governments are encouraged but not required documentation for this funding opportunity. However, applicants can consolidate all supplemental materials into one additional attachment. Do not include sections from other attachments as an Appendix.

D. Sub-Awards and Partnerships

Funding may be used to provide sub-awards, which includes using sub-awards to fund partnerships; however, the awardee must utilize at least 50 percent of the total funds awarded, and no more than three subcontracts will be permitted. All sub-awardees must comply with applicable requirements for sub-awards. Applicants must compete for services, contracts and products, including consultant contracts, and conduct cost and price analyses to the extent required by applicable procurement regulations.

The OAO awards funds to one eligible applicant as the awardee. Please indicate a lead applicant as the responsible party if other eligible applicants are named as partners or co-applicants or members of a coalition or consortium. The awardee is accountable to the OAO for the proper expenditure of all funds.

E. Submission Dates and Times

The closing date and time for receipt of proposal submissions is August 25, 2014, at 5:00 p.m., EST via www.grants.gov. Proposals received after the submission deadline will be considered late without further consideration.

F. Confidential Information

In accordance with 7 CFR 2500.017, the names of entities submitting proposals, as well as proposal contents and evaluations, will be kept confidential to the extent permissible by law. If an applicant chooses to include confidential or proprietary information in the proposal, it will be treated in accordance with Exemption 4 of the Freedom of Information Act (FOIA). Exemption 4 of the FOIA protects trade secrets, and commercial and financial information obtained from a person that is privileged or confidential.

G. Pre-Submission Proposal Assistance

1. The OAO may not assist individual applicants by reviewing draft proposals or providing advice on how to respond to evaluation criteria. However, the OAO will respond to questions from individual applicants regarding eligibility criteria, administrative issues related to the submission of the proposal, and requests for clarification regarding the announcement. Any questions should be submitted to OASDVFR2014@osec.usda.gov.

2. The OAO will post questions and answers (Q&A's) relating to this funding opportunity during its open period at www.grants.gov on the following Web page: http://www.outreach.usda.gov/grants/. The OAO will update the Q&A's on a weekly basis and conduct webinars on an as-needed basis.

V. Application Review Information

A. Evaluation Criteria

Only eligible entities whose proposals meet the threshold criteria in Section III of this announcement will be reviewed according to the evaluation criteria set forth below. Applicants should explicitly and fully address these criteria as part of their proposal package. Each proposal will be reviewed under the regulations established under 7 CFR Chapter XXV Part 2500 Subpart C.

The OAO will use a point system to rate each proposal, awarding a maximum of 100 points (95 points, plus an additional 5 discretionary points for programmatic priorities). Each proposal will be given a numerical score by the independent review panel, and will be rank-ordered accordingly. Preliminary funding recommendations will be provided to the designated approving official based on this ranking. Final funding decisions will be made by the designated approving official.

B. Evaluation Criteria for New Grants Proposals

Criteria | Points
1. Project Narrative: Under this criterion, the OAO will evaluate the extent to which the narrative includes a well-conceived strategy for addressing the requirements and objectives stated in: (i) Section I, Part B, Scope of Work (15 points), identifying two or more of the priority areas; (ii) Section I, Part C(1) Anticipated Outputs (15 points), documenting the extent to which the proposal seeks to connect socially disadvantaged and veteran farmers and ranchers with USDA agricultural programs; (iii) Section I, Part C(2), Anticipated Outcomes (10 points), indicating the final result or effect of your proposed project as it relates to the overall goals and objectives of the program; and (iv) Section I, Part C(3) Performance Measures (5 points), documenting the extent to which the applicant clearly demonstrates how they will ensure timely and successful completion of the project and whether the proposal sets forth a reasonable time schedule for execution of the tasks associated with the projects. In addition, the OAO may award up to 5 discretionary points for the following Secretary priorities and initiatives: | 45
• Projects assisting beginning farmers and ranchers (as defined in 7 U.S.C. 3319f); | 5
• Projects to assist StrikeForce states/communities as identified through the StrikeForce Initiative); |
• Projects that propose to assist with USDA's commitment to Tribal organizations with successful demonstration on implementation methods encompassing Tribal participation and buy-in; |
• Projects located in rural Promise Zones; |
• Projects with an emphasis on partnering with other USDA government agencies to leverage resources and to promote other USDA programs and initiatives (research, small and beginning farmers, and feeding programs, etc.); and |
• Projects that maximize areas of coverage for outreach by leveraging and partnering/collaborating with other Federal, state, local resources, etc. |
2. Tracking and Measuring: Under this criterion, the OAO will evaluate the effectiveness of the applicant's plan for tracking and measuring its progress toward achieving the expected project outputs and outcomes | 20
3. Programmatic Capability: Under this criterion, applicants will be evaluated based on their ability to successfully complete and manage the proposed project taking into account the applicant's: (i) (5 points) organizational experience and plan for timely and successfully achieving the objectives of the proposed project; and (ii) (5 points) staff expertise/qualifications, staff knowledge, and resources or the ability to obtain them, to successfully achieve the goals of the proposed project | 10
4. Past Funding Performance: Under this criterion, applicants will be evaluated based on their demonstrated ability to successfully complete and manage the proposed project taking into account the applicants' past performance in successfully completing and managing prior funding agreements identified in Attachment 1 of the proposal as described in Section IV.C of the announcement | 5
5. Budget: Under this criterion, the OAO will evaluate the proposed project budget to determine whether, (i) (10 points) costs are reasonable to accomplish the proposed goals, objectives, and measurable outcomes; and (ii) (5 points) the proposed budget provides a detailed breakdown of the approximate funding used for each major activity | 15

C. Selection of Reviewers

Reviewers will be selected based upon training and experience in relevant fields including, outreach, technical assistance, cooperative extension services, education, statistical and ethnographic data collection and analysis, and agricultural programs. Reviewers will be drawn from a diverse group of experts to create balanced review panels. More information on the selection of reviewers can be found in 7 CFR 2500.023.

VI. Award Administration Information

A. Award Notices

Proposal Notifications and Feedback

1. The successful applicant will be notified by the OAO via telephone, email, or postal mail. The notification will advise the applicant that its proposed project has been evaluated and recommended for award. The notification will be sent to the original signer of the SF-424, Application for Federal Assistance. The award notice will be forwarded to the grantee for execution and returned to the OAO grants officer, who is the authorizing official. Once grant documents are executed by all parties, authorization to begin work will be given. At a minimum, this process can take up to 30 days from the date of recommendation.

2. The OAO will send notification to unsuccessful applicants via email or postal mail. The notification will be sent to the original signer of the SF-424, Application for Federal Assistance.

3. Applicant feedback will be provided using the procedures established by 7 CFR Chapter XXV Part 2500.026.

B. Administrative and National Policy Requirements

All awards resulting from this FOA will be administered in accordance with the OAO assistance regulations codified at 7 CFR Part 2500. A listing and description of general federal regulations and cost principles applicable to the award of assistance agreements under this FOA can be found in 7 CFR Chapter XXV Part 2500.003.

C. Data Universal Numbering System, System for Award Management, and Central Contractor Registry Registration

In accordance with the Federal Funding Accountability and Transparency Act (FFATA) and the USDA implementation, all applicants must obtain and provide an identifying number from Dun and Bradstreet's (D&B) Data Universal Numbering System (DUNS). Applicants can receive a DUNS number, at no cost, by calling the toll-free DUNS Number request line at 1-866-705-5711, or visiting the D&B Web site at www.dnb.com.

In addition, FFATA requires applicants to register with the Central Contractor Registry (CCR) and the System for Award Management (SAM). This registration must be maintained and updated annually. Applicants can register or update their profile, at no cost, by visiting the SAM Web site at www.sam.gov which will satisfy both the CCR and SAM registration requirements.

D. Reporting Requirement

In accordance with 7 CFR Chapter XXV Part 2500.045 and 2500.046, the following reporting requirements will apply to awards provided under this FOA. The OAO reserves the right to revise the schedule and format of reporting requirements as necessary in the award agreement.

1. Quarterly progress reports and financial reports will be required.

• Quarterly Progress Reports. The awardee must submit the OMB-approved Performance Progress Report form (SF-PPR, Approval Number: 0970-0334). For each report, the awardee must complete fields 1 through 12 of the SF-PPR. To complete field 10, the awardee is required to provide a detailed narrative of project performance and activities as an attachment, as described in the award agreement. Quarterly progress reports must be submitted to the designated OAO official within 30 days after the end of each calendar quarter.

• Quarterly Financial Reports. The awardee must submit the Standard Form 425, Federal Financial Report. For each report, the awardee must complete both the Federal Cash Transaction Report and the Financial Status Report sections of the SF-425. Quarterly financial reports must be submitted to the designated OAO official within 30 days after the end of each calendar quarter.

2. Final progress and financial reports will be required upon project completion. The final progress report should include a summary of the project or activity throughout the funding period, achievements of the project or activity, and a discussion of problems experienced in conducting the project or activity. The final financial report should consist of a complete SF-425 indicating the total costs of the project. Final progress and financial reports must be submitted to the designated OAO official within 90 days after the completion of the award period.

Carolyn Parker,
Director, Office of Advocacy and Outreach.

[FR Doc. 2014-17254 Filed 7-23-14; 8:45 am]

BILLING CODE 3412-89-P